DEPARTMENT OF THE INTERIOR

Bureau of Land Management

[L61400000.ER0000/LLOR936000]

Renewal of Approved Information Collection

AGENCY: Bureau of Land Management, Interior.

ACTION: 30-day notice and request for comments.

SUMMARY: The Bureau of Land Management (BLM) has submitted an information collection request to the Office of Management and Budget (OMB) to continue the collection of information from private landowners in western Oregon who are authorized to transport timber over roads controlled by the BLM. The Office of Management and Budget (OMB) previously approved this information collection activity, and assigned it control number 1004-0168.

DATES: The OMB is required to respond to this information collection request within 60 days but may respond after 30 days. For maximum consideration, written comments should be received on or before January 27, 2014.

ADDRESSES: Please submit comments directly to the Desk Officer for the Department of the Interior (OMB #1004-0168), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0168” regardless of the form of your comments.

FOR FURTHER INFORMATION CONTACT: Dustin Wharton at 541-471-6659. Persons who use a telecommunication device for the deaf may call the Federal Information Relay Service at 1-800-877-8339, to leave a message for Mr. Wharton. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on September 16, 2013 (78 FR 56925), and the comment period ended November 15, 2013. The BLM received no public comments in response to this notice. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-1068 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Tramroads and Logging Roads (43 CFR part 2810).

OMB Control Number: 1004-0168.

Summary: This collection pertains to rights-of-way on public lands in western Oregon that were returned to the United States after being conveyed for construction of the Oregon & California Railroad. The BLM Oregon State Office has authority under the Act of August 28, 1937 (43 U.S.C. 1181a and 1181b) and subchapter V of the Federal Land Policy and Management Act (43 U.C.C. 1761-1771) to grant rights-of-way to private landowners to transport their timber over roads controlled by the BLM. The information collected under this control number enables the BLM to calculate and collect appropriate fees for this use of public lands.

Frequency of Collection: Annually, biannually, quarterly, or monthly, depending on the terms of the pertinent right-of-way.

Forms: Form 2812-6, Report of Road Use.

Description of Respondents: Private landowners who hold rights-of-way for the use of BLM-controlled roads in western Oregon.

Estimated Annual Responses: 272.

Estimated Annual Burden Hours: 2,176.

Estimated Annual Non-Hour Costs: None.

The estimated annual burdens for respondents are itemized in the following table:

A. | B. | C. | D.
Type of response and 43 CFR Citation | Number of responses | Hours per response | Total hours (column B × column C)
Form OR-2812-6, Report of Road Use 43 CFR 2812.3 and 43 CFR 2812.5 | 272 | 8 | 2,176
Total | 272 | 8 | 2,176

Jean Sonneman,
Bureau of Land Management, Information Collection Clearance Officer.

[FR Doc. 2013-30993 Filed 12-26-13; 8:45 am]

BILLING CODE 4310-84-P